DEPARTMENT OF DEFENSE

Office of the Secretary

[Docket ID: DoD-2023-OS-0057]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by July 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Prevention Workforce Evaluation; DoD-wide Data Collection and Analysis for Department of Defense Qualitative Data Collection in Support of the Independent Review Commission on Sexual Assault Recommendations; OMB Control Number 0704-0644.

Type of Request: New Generic IC.

Number of Respondents: 1,632.

Responses per Respondent: 1.5.

Annual Responses: 2,448.

Average Burden per Response: 3 hours.

Annual Burden Hours: 7,344.

Needs and Uses: To augment efforts focused on integrated primary prevention (IPP), DoD is hiring about 2,500 IPP personnel comprised of full-time personnel (herein called the Integrated Primary Prevention Workforce or IPPW) and part-time or support personnel. As this significant investment in prevention unfolds, a DoD-sponsored evaluation is necessary to track the progress and impact of these new personnel, as well as identify any mid-course corrections that should be made to the hiring, orientation, or integration process to maximize the impacts of this investment. Hiring these new personnel was recommended by the Independent Review Committee (IRC) on Sexual Assault in the Military and endorsed by Secretary of Defense as a priority for DoD (Recommendation 2.2: Establish a dedicated primary prevention workforce). Thus, this project will provide support to decision makers and leaders within the DoD and external to DoD (e.g., IRC members) as well as the service branches and installations that hire and integrate the new personnel.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: June 15, 2023.
Aaron T. Siegel,
Alternate OSD Federal Register Liaison Officer, Department of Defense.

[FR Doc. 2023-13215 Filed 6-21-23; 8:45 am]

BILLING CODE 5001-06-P